DEPARTMENT OF HEALTH AND HUMAN SERVICES

Food and Drug Administration

[Docket No. 1998F-0716]

Dainippon Ink and Chemicals, Inc.; Withdrawal of Food Additive Petition

AGENCY: Food and Drug Administration, HHS.

ACTION: Notice.

SUMMARY: The Food and Drug Administration (FDA) is announcing the withdrawal, without prejudice to a future filing, of a food additive petition (FAP 8B4619) proposing that the food additive regulations be amended to provide for the expanded safe use of a polyester-polyurethane resin-acid dianhydride adhesive in retortable pouches for use in contact with fatty food.

FOR FURTHER INFORMATION CONTACT: Mark Hepp, Center for Food Safety and Applied Nutrition (HFS-275), Food and Drug Administration, 5100 Paint Branch Pkwy., College Park, MD 20740-3858, 202-418-3098.

SUPPLEMENTARY INFORMATION: In a notice published in the Federal Register of August 31, 1998 (63 FR 46226), FDA announced that a food additive petition (FAP 8B4619) had been filed by Dainippon Ink and Chemicals, Inc., c/o Center for Regulatory Services, 2347 Paddock Lane, Reston, VA 20191. The petition proposed to amend the food additive regulations in § 177.1390 Laminate structures for use at temperatures of 250 °F and above (21 CFR 177.1390) to provide for the expanded safe use of a polyester-polyurethane resin-acid dianhydride adhesive in retortable pouches for use in contact with fatty food. Dainippon Ink and Chemicals, Inc., has now withdrawn the petition without prejudice to a future filing (21 CFR 171.7).

Dated: January 9, 2004.
Laura M. Tarantino,
Acting Director, Office of Food Additive Safety, Center for Food Safety and Applied Nutrition.

[FR Doc. 04-2313 Filed 2-4-04; 8:45 am]

BILLING CODE 4160-01-S